DEPARTMENT OF HOMELAND SECURITY

Federal Emergency Management Agency

[Docket ID FEMA-2023-0002; Internal Agency Docket No. FEMA-B-2384]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before February 7, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2384, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Chippewa County, Minnesota and Incorporated Areas
Project: 14-05-9588S Preliminary Date: December 20, 2022
City of Clara City | City Hall, 215 1st Street NW, Clara City, MN 56222.
City of Maynard | City Hall, 321 Mabel Street, Maynard, MN 56260.
City of Milan | City Hall, 244 North 2nd Street, Milan, MN 56262.
City of Montevideo | City Hall, 103 Canton Avenue, Montevideo, MN 56265.
Unincorporated Areas of Chippewa County | Chippewa County Court House, 629 North 11th Street, Montevideo, MN 56265.
Rockingham County, New Hampshire (All Jurisdictions)
Project: 15-01-0632S Preliminary Date: May 05, 2023
Town of Atkinson | Town Hall, 19 Academy Avenue, Atkinson, NH 03811.
Town of Auburn | Town Office, 47 Chester Road, Auburn, NH 03032.
Town of Candia | Town Office, 74 High Street, Candia, NH 03034.
Town of Chester | Municipal Office Building, 84 Chester Street, Chester, NH 03036.
Town of Danville | Town Office, 210 Main Street, Danville, NH 03819.
Town of Deerfield | Town Office, 8 Raymond Road, Deerfield, NH 03037.
Town of Derry | Municipal Center, 14 Manning Street, Derry, NH 03038.
Town of East Kingston | Town Office, 24 Depot Road, East Kingston, NH 03827.
Town of Hampstead | Town Hall, 11 Main Street, Hampstead, NH 03841.
Town of Kensington | Town Hall, 95 Amesbury Road, Kensington, NH 03833.
Town of Kingston | Town Office, 163 Main Street, Kingston, NH 03848.
Town of Londonderry | Town Hall, 268B Mammoth Road, Londonderry, NH 03053.
Town of Newton | Town Hall, 2 Town Hall Road, Newton, NH 03858.
Town of Northwood | Town Hall, 818 1st New Hampshire Turnpike, Northwood, NH 03261.
Town of Plaistow | Town Office, 145 Main Street, Plaistow, NH 03865.
Town of Salem | Town Office, 33 Geremonty Drive, Salem, NH 03079.
Town of Sandown | Town Office, 320 Main Street, Sandown, NH 03873.
Town of South Hampton | Town Office, 3 Hilldale Avenue, South Hampton, NH 03827.
Town of Windham | Town Administrative Offices, 4 North Lowell Road, Windham, NH 03087.
Tompkins County, New York (All Jurisdictions)
Project: 19-02-0019S Preliminary Date: January 18, 2023
City of Ithaca | City Hall, 108 East Green Street, 4th Floor, Ithaca, NY 14850.
Town of Caroline | Caroline Town Offices, 2668 Slaterville Road, Slaterville Springs, NY 14881.
Town of Danby | Danby Town Hall, 1830 Danby Road, Ithaca, NY 14850.
Town of Dryden | Town Hall, 93 East Main Street, Dryden, NY 13053.
Town of Enfield | Enfield Town Hall, 168 Enfield Main Road, Ithaca, NY 14850.
Town of Groton | Town Hall, 101 Conger Boulevard, Groton, NY 13073.
Town of Ithaca | Town Hall, 215 North Tioga Street, Ithaca, NY 14850.
Town of Lansing | Town Hall, 29 Auburn Road, Lansing, NY 14882.
Town of Newfield | Town Hall, 166 Main Street, Newfield, NY 14867.
Town of Ulysses | Ulysses Town Hall, 10 Elm Street, Trumansburg, NY 14886.
Village of Dryden | Dryden Town Hall, 93 East Main Street, Dryden, NY 13053.
Village of Freeville | Village of Freeville Offices, 5 Factory Street, Freeville, NY 13068.
Village of Groton | Groton Village Offices, 143 East Cortland Street, Groton, NY 13073.
Village of Lansing | Lansing Village Offices, 2405 North Triphammer Road, Ithaca, NY 14850.
Village of Trumansburg | Village of Trumansburg Offices, 56 East Main Street, Trumansburg, NY 14886.

[FR Doc. 2023-24797 Filed 11-8-23; 8:45 am]

BILLING CODE 9110-12-P